DEPARTMENT OF ENERGY

Federal Energy Regulatory Commission

[Project No. 11859-002]

Arizona Independent Power, Inc.; Notice of Surrender of Preliminary Permit

November 14, 2003.

Take notice that Arizona Independent Power, Inc., permittee for the proposed Azipco Pumped Storage Project, has requested that its preliminary permit be terminated. The permit was issued on February 16, 2001, and would have expired on January 31, 2004.¹ The project would have been located on Beardsley Canal in Maricopa County, Arizona.

¹ 94 FERC ¶62,153.

The permittee filed the request on September 25, 2003, and the preliminary permit for Project No. 11859 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. E3-00340 Filed 11-20-03; 8:45 am]

BILLING CODE 6717-01-P